NATIONAL SCIENCE FOUNDATION

Advisory Committee for Computer and Information Science and Engineering

ACTION: Change in notice of meeting.

SUMMARY: The National Science Foundation published a Notice of Meeting in the Federal Register on March 10, 2006, FR Doc 06-2308, on page 12403. The revised schedule below includes a meeting the evening before the original start date. The purpose of the meeting has been expanded to include a brainstorming session on strategic directions.

Name: Advisory Committee for Computer and Information Science and Engineering (1115).

Date and Time: April 23, 2006, 3 p.m.-7 p.m., April 24, 2006, 7:30 a.m.-3:30 p.m.

Place: The Westin Arlington Gateway Hotel, 801 N. Glebe Road, Arlington, VA 22203. National Science Foundation, 4201 Wilson Blvd., room 1235, Arlington, VA 22230.

Type of Meeting: Open.

Contact Person: Gwen Barber-Blount, Office of the Assistant Director, Directorate for Computer and Information Science and Engineering, National Science Foundation, 4201 Wilson Blvd., Suite 1105, Arlington, VA 22230. Telephone: (703) 292-8900.

Minutes: May be obtained from the contact person listed above.

Purpose of Meeting:

• Retreat of the board to brainstorm strategy direction.

• To advise NSF on the impact of its policies, programs and activities on the CISE community.

• To provide advice to the Assistant Director/CISE on issues related to long-range planning, and to form ad hoc subcommittees to carry out needed studies and tasks.

Agenda: Report from the Assistant Director. Discussion of research initiatives, education, diversity, workforce issues in IT and long-range funding outlook.

Dated: April 5, 2006.
Susanne Bolton,
Committee Management Officer.

[FR Doc. 06-3399 Filed 4-7-06; 8:45 am]

BILLING CODE 7555-01-M